DEPARTMENT OF DEFENSE

Department of the Army, Corps of Engineers

Florida Keys Coastal Storm Risk Management Study

AGENCY: U.S. Army Corps of Engineers, DoD.

ACTION: Notice of intent.

SUMMARY: In accordance with all applicable laws and regulations, the U.S. Army Corps of Engineers (USACE) plans to prepare a Feasibility Study with an integrated Environmental Impact Statement (EIS) to evaluate environmental impacts from reasonable project alternatives to protect nearshore areas of Monroe County, Florida, from hurricanes and other storms with their associated wind, storm surge, and coastal flooding.

DATES: Scoping comments are due by December 9, 2019.

ADDRESSES: The public is invited to submit NEPA scoping comments to Ms. Kathy Perdue, Department of the Army, U.S. Army Corps of Engineers, Norfolk District, Fort Norfolk, 803 Front St., Norfolk, VA 23510 or via email: Kathy.S.Perdue@usace.army.mil. The project title and the commenter's contact information should be included with submitted comments.

FOR FURTHER INFORMATION CONTACT: Ms. Kathy Perdue, (757) 201-7218.

SUPPLEMENTARY INFORMATION: Applicable laws and regulations are section 102(2)(C) of the National Environmental Policy Act (NEPA) of 1969, as amended, 42 U.S.C. 4321-4370, as implemented by the Council on Environmental Quality Regulations (40 CFR parts 1500-1508) and Section 106 of the National Historic Preservation Act of 1966, as amended, 16 U.S.C. 470f as implemented by Advisory Council on Historic Preservation regulations (36 CFR part 800). The study authority is Public Law 84-71 of 1955 which authorizes examination and survey of the coastal and tidal areas of the eastern and southern United States, with particular reference to areas where severe damages have occurred from hurricane winds and tides.

The primary problem is the vulnerability of critical infrastructure: the U.S. Route 1 corridor, and local development and population centers, to storm damage from major storms. Coastal flooding is exacerbated by Relative Sea Level Change, which also amplifies storm surge due to higher waters. These trends are expected to continue and worsen without intervention. Measures being considered include structural, nonstructural and natural and nature-based features such as road stabilization, buyouts/elevations of buildings, dry and wet flood-proofing of buildings, early warning systems, mangrove restoration, and living shorelines.

USACE is the lead federal agency and Monroe County is the non-federal sponsor for the study effort. The Feasibility Study/EIS will address the primary problem of the increasing storm damage and flooding occurring and expected to increase in the area by studying all reasonable alternatives and determine the Federal interest in cost-sharing for those alternatives.

As required by Council on Environmental Quality's Principles, Requirements and Guidelines for Water and Land Related Resources Implementation Studies, all reasonable alternatives to the proposed Federal action that meet the purpose and need will be considered in the EIS. The Study Area consists of all of the Florida Keys, a 123-mile-long chain of islands extending into the Gulf of Mexico to the southern tip of Florida. Several alternatives are currently being considered, including a no action alternative and various combinations of structural measures, nonstructural measures, and natural and nature based features for reducing risks and damages caused by coastal storms in the Study Area in Monroe County, Florida.

Scoping/Public Involvement. Two public NEPA scoping meetings were held in Monroe County. On September 11, 2019, from 5 p.m.—7 p.m. at the Key Largo Board of County Commissioners Room, Murray Nelson Government Center, 102050 Overseas Hwy, Key Largo, FL 33037. A second public meeting was held on September 12, 2019, at the Key West Commission Room, Harvey Government Center, 1200 Truman Avenue, Key West, Florida 33040. Federal, state, and local agencies, Indian tribes, and the public are invited to provide scoping comments to identify issues and potentially significant effects to be considered in the analysis.

Diana M. Holland,
Major General, U.S. Army, Commander, South Atlantic Division.

[FR Doc. 2019-24417 Filed 11-7-19; 8:45 am]

BILLING CODE 3720-58-P